DEPARTMENT OF ENERGY

Federal Energy Regulatory Commission

Notice of Effectiveness of Exempt Wholesale Generator Status

Frontier Windpower, LLC | EG16-33-000
CPV Towantic, LLC | EG16-34-000
CPV Valley, LLC | EG16-35-000
Kingbird Solar A, LLC | EG16-36-000
Kingbird Solar B, LLC | EG16-37-000
Innovative Solar 43, LLC | EG16-38-000
Bethel Wind Farm LLC | EG16-39-000
Tenaska Pennsylvania Partners, LLC | EG16-40-000
Horse Creek Wind, LLC | EG16-41-000

Take notice that during the month of March 2016, the status of the above-captioned entities as Exempt Wholesale Generators became effective by operation of the Commission's regulations. 18 CFR 366.7(a).

Dated: April 4, 2016.
Nathaniel J. Davis, Sr.,
Deputy Secretary.

[FR Doc. 2016-08072 Filed 4-7-16; 8:45 am]

BILLING CODE 6717-01-P